ENVIRONMENTAL PROTECTION AGENCY

[EPA-HQ-OPP-2009-0589; FRL-8438-3]

Aldicarb, Aliphatic Solvents, et al; Product Cancellation Order

AGENCY: Environmental Protection Agency (EPA).

ACTION: Notice.

SUMMARY: This notice announces EPA's order for the cancellations, voluntarily requested by the registrants and accepted by the Agency, of products containing the pesticides: Aldicarb, Aliphatic Solvents, Carbaryl, Copper Salts, Copper Sulfate, Cypermethrin, Naphthalene Acetic Acid, Piperonyl Butoxide, Resmethrin, 2,4-DB, and 2,4-DP, pursuant to section 6(f)(1) of the Federal Insecticide, Fungicide, and Rodenticide Act (FIFRA), as amended. This cancellation order follows an August 12, 2009, Federal Register Notice of Receipt of Requests from the registrants to voluntarily cancel their Aldicarb, Aliphatic Solvents, Carbaryl, Copper Salts, Copper Sulfate, Cypermethrin, Naphthalene Acetic Acid, Piperonyl Butoxide, Resmethrin, 2,4-DB, and 2,4-DP product registrations. These are not the last Aldicarb, Aliphatic Solvents, Carbaryl, Copper Salts, Copper Sulfate, Cypermethrin, Naphthalene Acetic Acid, Piperonyl Butoxide, Resmethrin, 2,4-DB, and 2,4-DP products registered for use in the United States. In the August 12, 2009 Notice, EPA indicated that it would issue an order implementing the cancellations unless the Agency received substantive comments within the 30 day comment period that would merit its further review of these requests, or unless the registrants withdrew their requests within this period. The Agency did not receive any comments on the notice. Further, the registrants did not withdraw their requests. Accordingly, EPA hereby issues in this notice a cancellation order granting the requested cancellations. Any distribution, sale, or use of the Aldicarb, Aliphatic Solvents, Carbaryl, Copper Salts, Copper Sulfate, Cypermethrin, Naphthalene Acetic Acid, Piperonyl Butoxide, Resmethrin, 2,4-DB, and 2,4-DP products subject to this cancellation order is permitted only in accordance with the terms of this order, including any existing stocks provisions.

DATES: The cancellations are effective September 23, 2009.

FOR FURTHER INFORMATION CONTACT: Barbara Briscoe, Pesticide Re-evaluation Division, Office of Pesticide Programs, Environmental Protection Agency, 1200 Pennsylvania Ave., NW., Washington, DC 20460-0001; telephone number: (703) 308-8177; fax number: (703) 308-8090; e-mail address: briscoe.barbara@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0589. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the cancellation, as requested by registrants, of products registered under section 3 of FIFRA. These registrations are listed in sequence by registration number in Table 1.

Table 1.—Aldicarb, Aliphatic Solvents, ET Al; Product Cancellations
Registration No. | Product Name
228-195 | Riverdale DP-4 Amine
352-694 | Tenn-Cop 5E
478-76 | Real Kill Flying Insect Killer
478-77 | Real Kill Indoor/Outdoor Plus
478-86 | Real Kill Liquid House and Garden Bug Killer for House Plants
478-122 | Real Kill Automatic Indoor Plus
769-628 | SMCP Vapona Insecticide 50% Concentrate Solution
769-646 | X-Cel Oil plus Malathion
769-728 | Seven Brand Carbaryl Insecticide 5% Turf Insecticide Granules
769-843 | Pratt’s Summer Spray Oil
769-848 | Pratt’s 6N Superior Oil
769-886 | Agrisect Superior Oil
769-928 | Warner Enterprises Indoor Insect Fogger
5481-428 | NAA 800
5481-432 | Technical 1-Naphthalene Acetic Acid Sodium Salt
8660-83 | White Fly Spray
8660-138 | Flea and Tick Pet Spray
8845-33 | Vertagreen Professional Use with Dacthal
8845-64 | Vertagreen Weed & Feed
8845-65 | Vertagreen Copper Sulfate Crystals
8845-74 | Pro - Tek with Balan
9688-21 | Chemsico Insecticide for Flying Insects
9688-48 | Chemsico Wasp and Hornet Killer II
9688-49 | Chemsico Wasp and Hornet Killer III
9688-102 | Chemsico Home Insect Control Spray A
9688-223 | Chemsico Insecticide FR
10807-208 | Misty Root Killer
46515-45 | Wasp & Hornet Killer 4
71368-32 | Nufarm 2,4 DB Weed Killer
71368-33 | Nufarm Buticide 200 Weed Killer
73049-317 | Cyperkil EC
73049-318 | Cyperkil WSB
75402-2 | HILO Premises Spray
75402-3 | Aloe Care Flea & Tick Shampoo
AL820033 | Temik Brand 15G Aldicarb Pesticide-Use on Pecans
AL870008 | Temik 15 G Aldicarb Pesticide-Use On Pecans Growing Under Drip Irrigation
AZ820015 | Temik Brand 15G Aldicarb Pesticide-Pecans
GA090004 | Temik Brand 15G Aldicarb Pesticide
GA820013 | Temik Brand 15G Aldicarb Pesticide-Use on Pecans
GA870003 | Temik Brand 15G Aldicarb Pesticide-Use on Pecans Growing Under Drip Irrigation
MS830009 | Temik Brand 15G Aldicarb Pesticide-Use on Pecans
NC780021 | Temik Brand 15G Aldicarb Pesticide-Use on Flue-Cured Tobacco
NC820008 | Temik Brand 15G Aldicarb Pesticide-Use on Flue-Cured Tobacco
NM820016 | Temik Brand 15G Aldicarb Pesticide-Use on Pecans
SC830009 | Temik Brand 15G Aldicarb Pesticide-Use on Pecans
SC090003 | Temik Brand 15G Aldicarb Pesticide
TX790010 | Temik Brand 15G Aldicarb Pesticide
VA820013 | Temik Brand 15G Aldicarb Pesticide-Use on Flue-Cured Tobacco

Table 2 of this unit includes the names and addresses of record for all registrants of the products in Table 1, in sequence by EPA company number.

Table 2.—Registrants of Cancelled Products
EPA Company No. | Company Name and Address
228 | Nufarm Americas, Inc. 150 Harvester Dr., Suite 200 Burr Ridge, IL 60527
352 | Dupont Crop Protection 1007 Market Street Wilmington, DE 19898
478 | Realex, Div. of United Industries, Corp. PO Box 142642 St. Louis, MO 63114
769 | Value Gardens Supply, LLC D/B/A Value Garden Supply PO Box 585 St Joseph, MO 64502
5481 | Amvac Chemical Corp. D/B/A Amvac 4695 MacArthur Court, Suite 1250 Newport Beach, CA 92660
8660 | United Industries Corp. D/B/A Sylorr Plant Corp. PO Box 142642 St. Louis, MO 63114
8845 | Spectrum Group Div. of United Industries Corp. PO Box 142642 St. Louis, MO 63114
9688 | Chemsico Div. of United Industries Corp. PO Box 142642 St. Louis, MO 63114
10807 | Amrep, Inc. 990 Industrial Park Drive Marietta, GA 30062
46515 | Celex, Div. of United Industries Corp. PO Box 142642 St. Louis, MO 63114
71368 | Nufarm, Inc. 150 Harvester Drive, Suite 200 Burr Ridge, IL 60527
73049 | Valent Biosciences Corp. 870 Technology Way, Suite 100 Libertyville, IL 60068
75402 | Boss Pet Products, Inc. 1645 Rockside Road, Suite 200 Maple Heights, OH 44137
AL820033 | Bayer Cropscience, LP 2 T.W. Alexander Drive Research Triangle Park, NC 27709
AL870008 | Bayer Cropscience, LP 2 T.W. Alexander Drive Research Triangle Park, NC 27709
AZ820015 | Bayer Cropscience, LP 2 T.W. Alexander Drive Research Triangle Park, NC 27709
GA090004 | Bayer Cropscience, LP 2 T.W. Alexander Drive Research Triangle Park, NC 27709
GA820013 | Bayer Cropscience, LP 2 T.W. Alexander Drive Research Triangle Park, NC 27709
GA870003 | Bayer Cropscience, LP 2 T.W. Alexander Drive Research Triangle Park, NC 27709
MS830009 | Bayer Cropscience, LP 2 T.W. Alexander Drive Research Triangle Park, NC 27709
NC780021 | Bayer Cropscience, LP 2 T.W. Alexander Drive Research Triangle Park, NC 27709
NC820008 | Bayer Cropscience, LP 2 T.W. Alexander Drive Research Triangle Park, NC 27709
NM820016 | Bayer Cropscience, LP 2 T.W. Alexander Drive Research Triangle Park, NC 27709
SC830009 | Bayer Cropscience, LP 2 T.W. Alexander Drive Research Triangle Park, NC 27709
SC090003 | Bayer Cropscience, LP 2 T.W. Alexander Drive Research Triangle Park, NC 27709
TX90010 | Bayer Cropscience, LP 2 T.W. Alexander Drive Research Triangle Park, NC 27709
VA820013 | Bayer Cropscience, LP 2 T.W. Alexander Drive Research Triangle Park, NC 27709

III. Summary of Public Comments Received and Agency Response to Comments

During the public comment period provided, EPA received no comments in response to the August 12, 2009, Federal Register notice announcing the Agency's receipt of the requests for voluntary cancellations of Aldicarb, Aliphatic Solvents, Carbaryl, Copper Salts, Copper Sulfate, Cypermethrin, Naphthalene Acetic Acid, Piperonyl Butoxide, Resmethrin, 2,4-DB, and 2,4-DP.

IV. Cancellation Order

Pursuant to FIFRA section 6(f), EPA hereby approves the requested cancellations of Aldicarb, Aliphatic Solvents, Carbaryl, Copper Salts, Copper Sulfate, Cypermethrin, Naphthalene Acetic Acid, Piperonyl Butoxide, Resmethrin, 2,4-DB, and 2,4-DP registrations identified inTable 1. Accordingly, the Agency orders that the product registrations identified in Table 1 are hereby canceled. Any distribution, sale, or use of existing stocks of the products identified in Table 1 in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

The effective date of cancellation will be the date of the cancellation order. The orders effecting these requested cancellations will generally permit a registrant to sell or distribute existing stocks until all stocks are exhausted, unless other factors (such as hazard) necessitate modified terms. Exceptions to this general rule will be made if a product poses a risk concern, or is in noncompliance with reregistration requirements, or is subject to a data call-in.

Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, pesticides, and pests.

Dated: September 14, 2009.
Richards P. Keigwin, Jr
Director, Pesticide Re-evaluation Division, Office of Pesticide Programs.

[FR Doc. E9-22626 Filed 9-22-09; 8:45 am]

BILLING CODE 6560-50-S